NUCLEAR WASTE TECHNICAL REVIEW BOARD

Meetings

Board Meetings:

February 9, 2005—Las Vegas, Nevada; The U.S. Nuclear Waste Technical Review will meet to discuss technical and scientific issues related to the U.S. Department of Energy's efforts to develop a repository at Yucca Mountain in Nevada.

February 10, 2005—Caliente, Nevada; The U.S. Nuclear Waste Technical Review Board will meet to discuss DOE plans for transporting spent nuclear fuel and high-level radioactive waste to the proposed repository and development of a rail spur from Caliente, Nevada, to the repository site.

Pursuant to its authority under section 5051 of Pub. L. 100-203, Nuclear Waste Policy Amendments Act of 1987, the U.S. Nuclear Waste Technical Review Board will meet in Las Vegas, Nevada, on Wednesday, February 9, and in Caliente, Nevada, on Thursday, February 10, 2005. Technical and scientific issues pertinent to the Department of Energy's (DOE) efforts to develop a repository at Yucca Mountain in Nevada will be discussed on Wednesday in Las Vegas. The meeting in Caliente on Thursday will focus on transportation planning issues and on the development of a rail spur from Caliente to the proposed repository site at Yucca Mountain. Final meeting agendas will be available approximately one week before the meeting dates. They can be obtained from the Board's Web site at http://www.nwtrb.gov or by telephone request. The meetings will be open to the public, and opportunities for public comment will be provided. The Board is charged by Congress with reviewing the technical and scientific validity of activities undertaken by the DOE related to nuclear waste disposal as stipulated in the Nuclear Waste Policy Amendments Act of 1987.

On Wednesday, the meeting is scheduled to begin at 8 a.m. and to continue until approximately 5:30 p.m. It will be held at the Alexis Park Hotel; 375 Harmon Avenue; Las Vegas, NV 89109; 702-796-3300 or 800-582-2228; fax 702-796-3354. On Thursday, the meeting will begin at 10 a.m. and continue until approximately 4:30 p.m. It will be held at the Caliente Youth Center; Highway 93, North #4; Caliente, Nevada 89008.

The meeting on Wednesday will include DOE program and project updates for fiscal year 2005. Updates on technical and scientific topics also will be presented, including the DOE's efforts to integrate elements within the waste management system, the DOE's approach to integrating total system performance assessment with repository design, and the DOE's thermal management strategy for a Yucca Mountain repository.

On Thursday, the meeting will begin with discussions of DOE plans for a national program for transporting spent nuclear fuel and high-level radioactive waste from reactor and defense facilities to the proposed repository and of efforts to integrate transportation activities with waste acceptance and repository operations. After the lunch break, information will be presented on the planning and development of the proposed Nevada rail spur. Local, state, and tribal representatives will present their views on these activities.

Time will be set aside at the end of both days for public comments. Those wanting to speak are encouraged to sign the “Public Comment Register” at the check-in table. A time limit may have to be set on individual remarks, but written comments of any length may be submitted for the record. Interested parties also will have the opportunity to submit questions in writing to the Board. As time permits, submitted questions relevant to the discussion may be asked by Board members.

Transcripts of the meetings will be available on the Board's Web site, by e-mail, on computer disk, and on a library-loan basis in paper format from Davonya Barnes of the Board's staff, beginning on March 18, 2005.

A block of rooms has been reserved at the Alexis Park Hotel for meeting participants. When making a reservation, please state that you are attending the Nuclear Waste Technical Review Board meeting. Reservations should be made by January 14, 2005, to ensure receiving the meeting rate.

For more information, contact Karyn Severson, NWTRB External Affairs; 2300 Clarendon Boulevard, Suite 1300; Arlington, VA 22201-3367; 703-235-4473; fax 703-235-4495.

Dated: January 7, 2005.
William D. Barnard,
Executive Director, Nuclear Waste Technical Review Board.

[FR Doc. 05-595 Filed 1-11-05; 8:45 am]

BILLING CODE 6820-AM-M